DEPARTMENT OF COMMERCE

Technology Administration

[Docket No.: 030423100-3100-01]

The United States-Greek Initiative for Technology Cooperation With the Balkans (ITCB)'s Joint Science and Technology Cooperation Advisory Council

AGENCY: Technology Administration, Department of Commerce.

ACTION: Notice; request for nominations for joint council member.

SUMMARY: The Technology Administration invites nominations of individuals for appointment to a vacancy on the Joint Science and Technology Cooperation Advisory Council established under a Memorandum of Understanding between the United States Department of Commerce and the Greek Ministry of National Economy concerning technology cooperation with the Balkans. The Technology Administration also invites nominations for appointment of three alternate Joint Council members. The Technology Administration will consider all nominations received in response to this notice.

DATES: Nominations must be received at the address below by no later than June 30, 2003.

ADDRESSES: Please submit nominations to Ken Ferguson, ITCB Program Officer, Office of Technology Policy, Technology Administration, U.S. Department of Commerce, Room 4411, 14th and Constitution Avenues, NW., Washington, DC 20230. Nominations may also be submitted by fax or e-mail to Ken Ferguson, ITCB Program Officer at 202-219-3310 or kferguson@ta.doc.gov if followed up with a hard copy sent by mail or courier.

FOR FURTHER INFORMATION CONTACT: Ken Ferguson, ITCB Program Officer, telephone: 202-482-0150; fax: 202-219-3310, e-mail: kferguson@ta.doc.gov.

Goals of the Memorandum of Understanding

On January 17, 1998, the United States Department of Commerce and the Greek Ministry of National Economy (hereinafter known as the “Participants”) entered into a Memorandum of Understanding (MOU) concerning technology cooperation with the Balkans, to be known as “The United States-Greek Initiative for Technology Cooperation with the Balkans” (ITCB). A Joint Science and Technology Cooperation Advisory Council (hereinafter “the Joint Council”) operates under the MOU.

The Participants recognize that working together to foster collaborative and mutually beneficial technology cooperation with countries in the Balkan region will provide economic benefits to the Balkan region, the United States and Greece. The goal of the Participants is to foster collaboration among public and private entities in the Participants' countries with public and private entities in the Balkan region in order to enhance scientific and technological capabilities in the Balkan region, enhance the relationship between U.S. and Greek public and private sector entities, and promote the development of stable, free market economies in the Balkan region. Emphasis is placed on both the fostering of the exchange of scientific and technical knowledge and personnel, and on building private sector technology capacities of Balkan ITCB member states through partnership with U.S. and Greek business. For the purposes of the MOU, countries in the Balkan region that are currently members of the ITCB are: Albania, Bulgaria, Romania and the Former Yugoslavian Republic of Macedonia. Membership may expand to other countries in the region that the Participants may mutually agree to include.

Cooperative Activities

Cooperative activities under this MOU include: Coordinated and joint research and technology projects, studies, and investigations; joint technological courses, workshops, conferences and symposia; exchanges of science and technology information and documentation in the context of cooperative activities; exchanges of scientists, specialists, and researchers; exchanges or sharing of equipment or materials; and other forms of scientific and technological cooperation that may be deemed appropriate. One of the goals is to create three-way partnerships between private and public technology companies, non-governmental organizations and other institutions from Greece, the United States and Balkan member states of the ITCB. Cooperative activities should reflect technological strengths in the Unites States and Greece, be responsive to scientific and technological needs in the Balkan member states, and should be structured to provide an appropriate collaborative role for three way partnerships.

Information on the Joint Council

For the purposes of implementing this MOU, the Participants have established a Joint Science and Technology Cooperation Advisory Council consisting of six members—three designated by, and serving at the pleasure of the Government of Greece, and three designated by and serving at the pleasure of the U.S. Department of Commerce. Each participant may designate alternate members. The Greek Secretariat for the ITCB is located at the Technology Park in Thessaloniki, Greece. The U.S. Secretariat for the ITCB is administered by Ashford Associates of Cambridge, Massachusetts.

Responsibilities of Joint Council Members and Alternates

The members of the Joint Council carry out the following functions:

1. Recommend to the Participants overall policies under the MOU.

2. Identify fields and forms of cooperation in accordance with the goals and objectives of the MOU.

3. Review, assess and make specific recommendations concerning cooperative activities.

4. Prepare periodic reports concerning the Joint Council and cooperative activities undertaken under the MOU for submission to the Participants.

5. Undertake such further functions as may appropriately be approved by the Participants.

6. The Participants may designate alternates to substitute for permanent council members at particular meetings or events, or to work on specific projects and initiatives.

7. When appropriate, alternates shall cast votes in lieu of permanent members. Respondents to this notice should indicate whether they are willing to serve as alternates, as permanent members, or as either to the ITCB Joint Council.

Meetings of the Joint Council

The Council meets every three to four months, usually in Thessaloniki or Athens, Greece, or as determined by the Participants. U.S. Council member's travel and living expenses associated with attending these meetings may be provided by a fund administered by the U.S. Secretariat for the ITCB.

Length of Service

A U.S. member's length of service on the Joint Council is not stipulated in the MOU and is discretionary with the U.S. Department of Commerce. Individuals chosen for membership will serve a term that best fits the needs and objectives of the Joint Council although the term's duration is normally two-three years. Upon the completion of a U.S. member's term, the U.S. Department of Commerce will either repeat this recruitment and selection process or extend the member's term as long as the member proves to work effectively on the Joint Council and his/her expertise is still needed.

Membership Criteria and Requirements

The U.S. members of the Joint Council are eminent leaders, broadly representative of industry, academia or government, who have experience in science and technology development, technology diffusion, or international technology collaboration. They shall be U.S. citizens. They shall be familiar with the business climate and the status of technology and economic development in Greece and the Balkans, with Greek and Balkan industry, and/or with Greek and Balkan academic institutions. Members of the Joint Council shall serve without compensation.

The U.S. Department of Commerce is committed to equal opportunity in the workplace, and seeks a broad-based and diverse Joint Council membership.

Conflict of Interest

Nominees will be evaluated for their ability to contribute to the goals and objectives of the MOU. Nominees will be vetted in accordance with processes established by the U.S. Department of Commerce in February 1997, as soon as possible following tentative selection. The vetting system has three components: (1) An internal review for possible appearance of conflict problems; (2) an external review for possible appearance of problems; and (3) a recusal/ethics agreement review.

Dated: May 19, 2003.
Christian Israel,
Deputy Assistant Secretary for Technology Policy.

[FR Doc. 03-12833 Filed 5-21-03; 8:45 am]

BILLING CODE 3510-GN-P